DEPARTMENT OF ENERGY

Federal Energy Regulatory Commission

[Docket No. RP03-488-000]

Williston Basin Interstate Pipeline Company; Notice of Tariff Filing

June 3, 2003.

Take notice that on May 30, 2003, Williston Basin Interstate Pipeline Company (Williston Basin), tendered for filing as part of its FERC Gas Tariff, Second Revised Volume No. 1, the following revised tariff sheets to become effective July 1, 2003:

Eighth Revised Sheet No. 203

Fifth Revised Sheet No. 236

Sixth Revised Sheet No. 376

Fourth Revised Sheet No. 503

Fifth Revised Sheet No. 508

Fourth Revised Sheet No. 509

Tenth Revised Sheet No. 510

Fourth Revised Sheet No. 553

Fifth Revised Sheet No. 558

Fourth Revised Sheet No. 559

Tenth Revised Sheet No. 560

Williston Basin states that the revised tariff sheets reflect modifications to Williston Basin's FERC Gas Tariff to reflect a change in the Company's current procedures for identifying, adding and/or deleting alternate points and/or pooling points to a shipper's firm transportation contract(s).

Williston Basin states that copies of the filing are being served upon those listed on the mailing list attached to the filing.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary

[FR Doc. 03-14509 Filed 6-9-03; 8:45 am]

BILLING CODE 6717-01-P